DEPARTMENT OF DEFENSE

Department of the Army, Corps of Engineers

Notice of Availability of The Great Lakes and Mississippi River Interbasin Study—Brandon Road Draft Integrated Feasibility Study and Environmental Impact Statement—Will County, Illinois

AGENCY: Department of the Army, U.S. Army Corps of Engineers, DoD.

ACTION: Extension of public comment period.

SUMMARY: The U.S. Army Corps of Engineers (USACE) is extending the comment period for the report “The Great Lakes and Mississippi River Interbasin Study—Brandon Road Draft Integrated Feasibility Study and Environmental Impact Statement—Will County, Illinois” (GLMRIS-Brandon Road) for 45 days in response to stakeholder requests for an extension, from October 2, 2017 to November 16, 2017.

DATES: The comment period is extended for the draft GLMRIS-Brandon Road report published in the Federal Register on August 7, 2017 (82 FR 36760). Comments must be received or postmarked by November 16, 2017.

ADDRESSES: Comments may be submitted in the following ways:

GLMRIS Project Web site: Use the Web comment function found at http://glmris.anl.gov.

Mail: Send comments to U.S. Army Corps of Engineers, Chicago District, ATTN: GLMRIS-Brandon Road Comments, 231 S. LaSalle St., Suite 1500, Chicago, IL 60604.

FOR FURTHER INFORMATION CONTACT: Contact Andrew Leichty, Program Manager, by mail: U.S. Army Corps of Engineers, Rock Island District, Clock Tower Building (ATTN: Leichty), P.O. Box 2004, Rock Island, IL 61204-2004, by phone: 309-794-5399; or by email: Andrew.L.Leichty@usace.army.mil.

SUPPLEMENTARY INFORMATION: The GLMRIS authority directed USACE to identify the range of options and technologies available to prevent the spread of aquatic nuisance species between the Great Lakes and Mississippi River Basins through the Chicago Sanitary and Ship Canal and other aquatic pathways. The goal of the GLMRIS-Brandon Road Study is to prevent the upstream transfer of aquatic nuisance species while minimizing impacts to existing waterways uses and users.

Comments, including the names and addresses of those who comment, received during the comment period will be posted on the GLMRIS project Web site. Comments submitted anonymously will be accepted, considered, and posted. Commenters may indicate that they do not wish to have their name or other personal information made available on the Web site. However, USACE cannot guarantee that information withheld from the Web site will be maintained as confidential. Persons requesting confidentiality should be aware that, under the Freedom of Information Act, confidentiality may be granted in only limited circumstances.

Dated: September 18, 2017.
Dennis W. Hamilton,
Chief, Programs and Project Management Division.

[FR Doc. 2017-20680 Filed 9-26-17; 8:45 am]

BILLING CODE 3720-58-P